DEPARTMENT OF HOUSING AND URBAN DEVELOPMENT

[Docket No. FR-7001-N-53]

30-Day Notice of Proposed Information Collection: Office of Native American Program (ONAP) Training and Technical Assistance Evaluation Form

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: December 10, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Person with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

The Federal Register notice that solicited public comment on the information collection for a period of 60 days was published on July 30, 2018 at 83 FR 36614.

A. Overview of Information Collection

Title of Information Collection: Office of Native American Program (ONAP) Training and Technical Assistance Evaluation Form.

OMB Approval Number: 2577-New.

Type of Request: New Collection.

Form Number: HUD-5879.

Description of the need for the information and proposed use: The Native American Housing Assistance and Self-Determination Reauthorization Act (NAHASDA) authorizes funding for the Indian Housing Block Grant (IHBG) program that supports the development, management, and operation of affordable homeownership and rental housing; infrastructure development; and other forms of housing assistance intended for low-income persons. Federally-recognized Native American and Alaska Native tribes, tribally-designated housing entities, and the Department of Hawaiian Home Lands are eligible to receive IHBG funds.

HUD's Office of Native American Programs (ONAP) administers the IHBG program and offers contracted training and technical assistance to IHBG recipients on program requirements. ONAP's Notice of Funding Availability for training and technical assistance services includes the requirement for the contractor(s) to use an OMB-approved evaluation form at all ONAP-sponsored events. At the end of each training and technical assistance event, participants are invited to voluntarily complete the Training and Technical Assistance Evaluation Form (form HUD-5879) to assess training and technical assistance effectiveness and solicit ideas for improvement. Form HUD-5879 is a one-page survey instrument and does not collect any personally identifiable information, including a participant's name.

Respondents (i.e. affected public): PHA leadership and staff.

Information collection | Number of respondents | Frequency of response | Responses per annum | Burden hour per response | Total burden hours | Hourly cost per responses | Annual cost
HUD-5879 | 40.00 | 200.00 | 8,000.00 | 0.2 | 1,600.00 | $36.00 | $57,600.00
Total | 40.00 | 200.00 | 8,000.00 | 0.2 | 1,600.00 | 36.00 | 57,600.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: including through the use of appropriate automated collection techniques or other forms of information technology, e.g., permitting electronic submission of responses.

HUD encourages interested parties to submit comment in response to these questions.

Authority: Section 3507 of the Paperwork Reduction Act of 1995, 44 U.S.C. Chapter 35.

Dated: October 23, 2018.
Colette Pollard,
Department Reports Management Officer, Office of the Chief Information Officer.

[FR Doc. 2018-24491 Filed 11-8-18; 8:45 am]

BILLING CODE 4210-67-P